SMALL BUSINESS ADMINISTRATION

[License No. 04/04-0332]

KLH Capital Fund III, L.P.; Surrender of License of Small Business Investment Company

Pursuant to the authority granted to the United States Small Business Administration under Section 309 of the Small Business Investment Act of 1958, as amended, and 13 CFR 107.1900 of the Code of Federal Regulations to function as a small business investment company under the Small Business Investment Company license number 04/04-0332 issued to KLH Capital Fund III, L.P., said license is hereby declared null and void.

Paul Salgado,
Director, Investment Portfolio Management, U.S. Small Business Administration.

[FR Doc. 2025-06154 Filed 4-9-25; 8:45 am]

BILLING CODE P